DEPARTMENT OF COMMERCE

Minority Business Development Agency

Agency Information Collection Activities; Submission to the Office of Management and Budget (OMB) for Review and Approval; Comment Request; National Minority Business Awards

AGENCY: Minority Business Development Agency, Commerce.

ACTION: Notice of Information Collection, Regular submission.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB. The National Minority Business Awards Program is a key element of Minority Enterprise Development Week and celebrates the outstanding achievements of minority entrepreneurs.

DATES: To ensure consideration, comments regarding this proposed information collection must be received on or before April 23, 2021.

ADDRESSES: Interested persons are invited to submit written comments to Minority Business Development Agency PRA Officer at PRAcomments@doc.gov. Please reference OMB Control Number 0640-0025 in the subject line of your comments. Do not submit Confidential Business Information or otherwise sensitive or protected information.

FOR FURTHER INFORMATION CONTACT: Requests for additional information or specific questions related to collection activities should be directed to Antavia Grimsley, Management Analyst, Minority Business Development Agency, Room 5063, 1401 Constitution Avenue NW, Washington, DC 20230; telephone (202)482-7458, or AGrimsley1@mbda.gov.

SUPPLEMENTARY INFORMATION:

I. Abstract

The Minority Business Development Agency (MBDA) is the only federal agency created exclusively to foster the growth and global competitiveness of minority-owned businesses in the United States. For this purpose, a minority owned business must be owned or controlled by one of the following persons or group of persons: African American, American Indian, Alaska Native, Asian, Hispanic, Native Hawaiian, Pacific Islander, Asian Indian, and Hasidic Jew. MBDA provides management and technical assistance to large, medium, and small minority business enterprises through a network of business centers throughout the United States.

Since 1983, every president has issued a Presidential Proclamation designating one week as National Minority Enterprise Development (MED) Week. MBDA recognizes the role that minority entrepreneurs play in building the Nation's economy by honoring businesses that are making a significant contribution through the creation of jobs, products and services, in addition to supporting their local communities. The National Minority Business Awards Program is a key element of MED Week and celebrates the outstanding achievements of minority entrepreneurs. MBDA may make awards in the following categories: Minority Construction Firm of the Year, Minority Export Firm of the Year, Minority Manufacturing Firm of the Year, Minority E-Commerce Firm of the Year, Minority Emerging Technologies and Industries Firm of the Year, Minority Health Products and Services Firm of the Year, Minority Marketing and Communications Firm of the Year, Firm of the Year, Minority Veteran-Owned Firm of the Year, and Robert J. Brown Minority Business Enterprise of the Year. In addition, MBDA may recognize trailblazers and champions through the Access to Capital Award, Advocate of the Year Award, Distinguished Supplier Diversity Award, Abe Venable Legacy Award for Lifetime Achievement, and Ronald H. Brown Leadership Awards. All awards will be presented at a ceremony during National MED Week. Nominations for these awards are open to the public. MBDA must collect two types of information: (a) Information identifying the nominee and nominator, and (b) information explaining why the nominee should be given the award. The information will be used to determine those applicants best meeting the preannounced evaluation criterion. Use of a nomination form standardizes and limits the information collected as part of the nomination process. This makes the competition fair and eases the burden on applicants and reviewers. Participation in the National Minority Business Awards competition is voluntary and the awards are strictly honorary.

II. Method of Collection

The MBDA uses several forms of data collection: by mail, hand delivery, fax, or electronic delivery when the MBDA staff presents questions to the MBDA Business Center clients.

III. Data

OMB Control Number: 0640-0025.

Form Number(s): Not applicable.

Type of Review: Regular submission.

Affected Public: Businesses or other for-profit organizations, not-for-profit institutions, State, Local, or Tribal government, and Federal government.

Estimated Number of Respondents: 250.

Estimated Time per Response: 1 hour.

Estimated Total Annual Burden Hours: 250.

Estimated Total Annual Cost to Public: $0

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2021-03433 Filed 2-19-21; 8:45 am]

BILLING CODE 3510-21-P